PENSION BENEFIT GUARANTY CORPORATION

Proposed Submission of Information Collection for OMB Review; Comment Request; Annual Reporting (Form 5500 Series)

AGENCY: Pension Benefit Guaranty Corporation.

ACTION: Notice of request for extension of OMB approval, with modifications.

SUMMARY: The Pension Benefit Guaranty Corporation (PBGC) is requesting that the Office of Management and Budget (OMB) extend approval, with modifications, under the Paperwork Reduction Act of 1995, of its collection of information for Annual Reporting (OMB control number 1212-0057, which expires on August 31, 2020). This notice informs the public of PBGC's request and solicits public comment on the collection of information.

DATES: Comments must be submitted by January 16, 2018 to be assured of consideration.

ADDRESSES: Comments should be sent to the Office of Information and Regulatory Affairs, Office of Management and Budget, Attention: Desk Officer for Pension Benefit Guaranty Corporation, via electronic mail at OIRA_DOCKET@omb.eop.gov or by fax to (202) 395-6974. A copy of the request is posted at https://www.pbgc.gov/prac/pg/other/guidance/paperwork-notices. It may also be obtained without charge by writing to the Disclosure Division of the Office of the General Counsel of PBGC at 1200 K Street NW, Washington, DC 20005, faxing a request to 202-326-4042, or calling 202-326-4040 during normal business hours. TTY and TDD users may call the Federal relay service toll-free at 1 800-877-8339 and ask to be connected to 202-326-4040. The Disclosure Division will email, fax, or mail the request to you, at your request.

FOR FURTHER INFORMATION CONTACT: Jo Amato Burns (burns.jo.amato@pbgc.gov), Regulatory Affairs Division, Office of the General Counsel, Pension Benefit Guaranty Corporation, 1200 K Street NW, Washington, DC 20005-4026, 202 326-4400, extension 3072, or Daniel S. Liebman (Liebman.Daniel@pbgc.gov), Acting Assistant General Counsel, same address and phone number, extension 6510. TTY and TDD users may call the Federal relay service toll-free at 800-877-8339 and ask to be connected to 202-326-4400.

SUPPLEMENTARY INFORMATION: The Employee Retirement Income Security Act of 1974 (ERISA) contains three separate sets of provisions—in Title I (Labor provisions), Title II (Internal Revenue Code provisions), and Title IV (PBGC provisions)—requiring administrators of employee pension and welfare benefit plans (collectively referred to as employee benefit plans) to file returns or reports annually with the federal government.

PBGC, the Department of Labor (DOL), and the Internal Revenue Service (IRS) work together to produce the Form 5500 Annual Return/Report of Employee Benefit Plan and Form 5500-SF Short Form Annual Return/Report of Small Employee Benefit Plan (Form 5500 Series), through which the regulated public can satisfy the combined annual reporting/filing requirements applicable to employee benefit plans.

PBGC is requesting that OMB extend its approval of this collection of information with the following changes proposed by PBGC to the 2018 Schedule MB (Multiemployer Defined Benefit Plan Actuarial Information) and the 2018 Schedule SB (Single Employer Defined Benefit Plan Actuarial Information), and related instructions, as described below. The two schedules are part of the Form 5500 series.

PBGC is proposing three modifications to the 2018 Schedule MB instructions, one modification to the Schedule SB instructions, and one modification to the Schedule SB form. These modifications affect some, but not all, multiemployer defined benefit plans and relatively few single-employers defined benefit plans covered by Title IV of ERISA. The modifications are described in greater detail in the supporting statement submitted to OMB with this information collection, along with PBGC's rationale for each modification.

Changes Proposed to Schedule MB Instructions

PBGC is proposing to change the instructions to require new attachments in two situations:

1. Where contributions are reported as being made to a multiemployer plan, PBGC is proposing that for each reported contribution, the aggregate amount of withdrawal liability payments included in the contribution be reported.

2. For multiemployer plans in critical status or critical and declining status (i.e., where Code C or Code D is entered on Line 4b), plans currently report the year the plan is projected to become insolvent or emerge from troubled status on Line 4f. However, they are not required to provide supporting documentation for these projections. PBGC is proposing that basic supporting documentation be included as an attachment to Line 4f unless the plan is projected to emerge from critical status within 30 years.

3. The current instructions are unclear about which year should be entered in line 4f if the plan is neither projected to emerge from critical status nor become insolvent within 30 years. PBGC proposes that such a plan should enter “9999” in line 4f in this event.

Changes Proposed to Schedule SB Instructions and Form

With regard to the Schedule SB instructions and form, PBGC is proposing to change the instructions related to an attachment that is currently required of plans for which the IRS has granted permission to use a substitute mortality table. The current instructions for Schedule SB, item 23, reflect IRS regulations on the use of substitute mortality tables (26 CFR 1.430(h)(3)-2) as they pertain to plan years beginning before January 1, 2018. Those rules have changed with respect to plan years beginning on or after January 1, 2018. In its 60-day notice, PBGC proposed requiring plans to report additional information, consistent with IRS' proposal to amend its regulation, as part of the item 23 attachment.

After PBGC's 60-day notice, the IRS finalized its mortality table regulation, which set forth the prescribed mortality tables for plan years beginning in or after 2018. Unlike the proposed rule, the final rule provides an option to delay use of the new mortality tables until 2019 if the plan sponsor determines that using the new tables for 2018 would be “administratively impracticable or would result in an adverse business impact that is greater than de minimis. . . .” As a result of this change, PBGC is proposing an additional change to Schedule SB, item 23 (one that was not included in the 60-day notice), as well as to the related instructions as explained below.

Currently, plans check one of three boxes on Schedule SB to indicate whether they used one of two versions of the prescribed mortality table or a substitute table. Instead of having three choices as to which mortality table is used for 2018, plans will have six choices: Three options if they delay the use of the new tables and three options if they do not delay. For this reason, PBGC is proposing that six checkboxes appear on the 2018 Schedule SB instead of three.

On September 19, 2017 (82 FR 43798), PBGC published a notice informing the public that it intended to request OMB approval of the modifications and solicited public comment. PBGC received three comments. The comments and PBGC's responses are described in the supporting statement submitted to OMB for this information collection.

This collection of information has been approved by OMB under control number 1212-0057 through August 31, 2020. PBGC is requesting that OMB extend its approval for three years with changes. An agency may not conduct or sponsor, and a person is not required to respond to, a collection of information unless it displays a currently valid OMB control number.

PBGC estimates that it will receive approximately 23,900 Form 5500 and Form 5500-SF filings per year under this collection of information. PBGC further estimates that the total annual burden of this collection of information for PBGC will be 1,300 hours and $1,613,000.

Issued in Washington, DC.
Daniel S. Liebman,
Acting Assistant General Counsel for Regulatory Affairs, Pension Benefit Guaranty Corporation.

[FR Doc. 2017-27050 Filed 12-14-17; 8:45 am]

BILLING CODE 7709-02-P